DEPARTMENT OF THE TREASURY

Office of the Comptroller of the Treasury

12 CFR Part 19

[Docket No. 02-15]

RIN 1557-AB43

BOARD OF GOVERNORS OF THE FEDERAL RESERVE SYSTEM

12 CFR Part 263

[Docket No. R-1139]

FEDERAL DEPOSIT INSURANCE CORPORATION

12 CFR Part 308

RIN 3064-AC57

DEPARTMENT OF THE TREASURY

Office of Thrift Supervision

12 CFR Part 513

[No. 2002-58]

RIN 1550-AB53

Removal, Suspension, and Debarment of Accountants From Performing Audit Services

AGENCIES: Office of the Comptroller of the Currency (OCC), Treasury; Board of Governors of the Federal Reserve System (Board); Federal Deposit Insurance Corporation (FDIC); and Office of Thrift Supervision (OTS), Treasury.

ACTION: Joint notice of proposed rulemaking; technical correction.

SUMMARY: The OCC, Board, FDIC, and the OTS jointly published in the Federal Register of January 8, 2003 (68 FR 1116), a joint notice of proposed rulemaking that proposed to revise their respective rules of practice pursuant to section 36 of the Federal Deposit Insurance Act (FDIA). This document makes technical corrections to the joint notice of proposed rulemaking.

FOR FURTHER INFORMATION CONTACT: FDIC: Richard Bogue, Counsel, Enforcement Unit, (202) 898-3276.

OTS: Teresa A. Scott, Counsel (Banking and Finance), (202) 906-6478.

SUPPLEMENTARY INFORMATION: In FR Doc. 03-98, published on January 8, 2003 (68 FR 1116), make the following corrections:

PART 308—[Corrected]

1. On page 1126, in the second column, the heading of the table of contents and new Subpart U heading are revised to read as follows: “Subpart U—Removal, Suspension, and Debarment of Accountants From Performing Audit Services”

§ 308.604 [Corrected]

2. On page 1128, in the first column, in § 308.604(b)(1), remove “§§ 308.603(b) through (d); or” and add, “§§ 308.603(a)(2) through (a)(4); or” in its place.

§ 513.8 [Corrected]

3. On page 1128, in the second line of the third column, in § 513.8(a), remove “loan holding.” and add, “loan holding companies.” in its place.

4. On page 1130, in the first column, in the last word of § 513.8(j)(1)(iii), remove the word “and” and add “or” in its place.

Dated: January 17, 2003.
By order of the Board of Directors of the Federal Deposit Insurance Corporation.
Robert Feldman,
Executive Secretary.

Dated: January 22, 2003.
Marilyn K. Burton,
Federal Register Liaison Officer, Office of Thrift Supervision.

[FR Doc. 03-1960 Filed 1-30-03; 8:45 am]

BILLING CODE 6714-01-P; 6720-01-P